DEPARTMENT OF VETERANS AFFAIRS

Privacy Act of 1974; System of Records

AGENCY: Department of Veterans Affairs.

ACTION: Notice of amendment of system of records “VA Compensation, Pension, Education and Rehabilitation Records—VA.

SUMMARY: As required by the Privacy Act of 1974, 5 U.S.C. 552a(e)(4), notice is hereby given that the Department of Veterans Affairs (VA) proposes to add one routine use to the system of records “VA Compensation, Pension, Education and Rehabilitation Records—VA (58VA21/22/28).”

DATES: Comments on routine uses must be received no later than October 2, 2008, on or before October 2, 2008. If no public comment is received during the period allowed for comments, the routine use will become effective October 2, 2008.

ADDRESSES: Written comments may be submitted through http://www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m., Monday through Friday (except Federal holidays). Please call (202) 461-4902 for an appointment. (This is not a toll-free number.) In addition, during the comment period, comments may be viewed online through the Federal Docket Management System (FDMS) at http://www.Regulations.gov.

FOR FURTHER INFORMATION CONTACT: Thomas E. Whitworth, Procedures Analyst, Compensation and Pension Service, Department of Veterans Affairs, 810 Vermont Ave., NW., Washington, DC 20420, (202) 461-9652.

SUPPLEMENTARY INFORMATION: Based upon recommendations made by The President's Commission on care for America's Returning Wounded Warriors; The Wounded, Ill, and Injured Senior Oversight Committee (WII-SOC); and a joint DoD/VA committee, approved “Modernizing and Improving the Disability and Compensation Systems.” This requires implementation of Disability Evaluation/Transition Medical Examinations in the Disability Evaluation System (DES) and VA Disability Compensation & Pension Determinations. VA proposes to add a new routine use to 58VA21/22 under which to disclose identifying information determined necessary to support a mutually beneficial relationship between the DoD and VA in the implementation of a streamlined disability evaluation and compensation process. This initiative includes an interagency single Disability Evaluation/Transition examination in the DES process and applies to the examination, and subsequent VA rating decision, of active duty personnel and reserve component members (with duty related medical impairments) that are referred to the DoD DES. VA has determined that the release of information for this purpose is necessary for the proper use of the information in this system of records, and that the new specific routine use for release of this information is appropriate.

VA proposes to add this routine use to the following system of records which is contained in the Federal Register: VA Compensation, Pension, Education and Rehabilitation Records—VA (58VA21/22/28), first published at 41 FR 924 (March 3, 1976), and last amended at 73 FR 29181 (May 20, 2008), with other amendments as cited therein.

A “Report of Altered System” and an advance copy of the revised system have been sent to the chairmen and ranking minority members of the Committee on Government Reform of the U.S. House of Representatives and the Committee on Governmental Affairs of the U.S. Senate, and to the Office of Management and Budget, as required by 5 U.S.C. 552a(o) and guidelines issued by the Office of Management and Budget.

Interested persons are invited to submit written comments, suggestions, or objections regarding the proposed amended routine use statement to the Director, Office of Regulations Management (02D), Department of Veterans Affairs, 810 Vermont Ave., NW., Washington, DC 20420. All relevant material received within October 2, 2008, will be considered. All written comments received will be available for public inspection at the above address in the Office of Regulations Management, Room 1158, between the hours of 8:30 a.m. and 4:30 p.m., Monday through Friday, except Federal holidays.

If no public comment is received during the 30-day review period allowed for public comment, or otherwise published in the Federal Register by VA, the new routine use is effective October 2, 2008.

Approved: August 18, 2008.
Gordon H. Mansfield,
Deputy Secretary of Veterans Affairs.

58VA21/22/28

SYSTEM NAME:

Compensation, Pension, Education and Rehabilitation Records—VA.

1. In the system identified as 58VA21/22/28 “Compensation, Pension, Education, and Rehabilitation Records,” first published at 41 FR 924 (March 3, 1976), and last amended at 73 FR 29181 (May 20, 2008), with other amendments as cited therein, the following routine use is added:

SYSTEM NAME:

Compensation, Pension, Education and Rehabilitation Records.

* * * * *

ROUTINE USES OF RECORDS MAINTAINED IN THE SYSTEM, INCLUDING CATEGORIES OF USERS AND PURPOSES OF SUCH USES:

* * * * *

(70) Any information contained in this system may be disclosed by VA as deemed necessary to DoD for use by the Medical Evaluation Board (MEB) or Physical Evaluation Board (PEB) for determinations required by DoD. VA will routinely use the information to conduct medical evaluations needed to produce VA disability ratings and to promulgate subsequent claims for benefits under Title 38 U.S.C.

* * * * *

[FR Doc. E8-20219 Filed 8-29-08; 8:45 am]

BILLING CODE 8320-01-P